DEPARTMENT OF COMMERCE

National Institute of Standards and Technology

National Advisory Committee on Windstorm Impact Reduction Meeting

AGENCY: National Institute of Standards and Technology, Department of Commerce.

ACTION: Notice of open meeting via video conference.

SUMMARY: The National Advisory Committee on Windstorm Impact Reduction (NACWIR or Committee), will hold an open meeting continuing the work of the Committee via video conference on Monday, September 25, 2017, from 9:00 a.m. to 10:00 a.m. Eastern Time. The primary purpose of the meeting will be to finalize the Committee's report on assessments and recommendations on the National Windstorm Impact Reduction Program. Interested members of the public will also be able to participate from remote locations. Instructions will be provided when members of the public register.

DATES: The NACWIR will hold a meeting via video conference on Monday, September 25, 2017, from 9:00 a.m. until 10:00 a.m. Eastern Time. The meeting will be open to the public.

ADDRESSES: Questions regarding the meeting should be sent to the National Windstorm Impact Reduction Program Director, National Institute of Standards and Technology (NIST), 100 Bureau Drive, Mail Stop 8611, Gaithersburg, Maryland 20899.

Anyone wishing to participate must register by 5:00 p.m. Eastern Time, Monday, September 18, 2017. For instructions on how to participate in the meeting, please see the SUPPLEMENTARY INFORMATION section of this notice.

FOR FURTHER INFORMATION CONTACT: Steve Potts, Management and Program Analyst, NWIRP, Engineering Laboratory, NIST, 100 Bureau Drive, Mail Stop 8611, Gaithersburg, Maryland 20899. He can also be contacted by email at Stephen.potts@nist.gov; or by phone at (301) 975-5412.

SUPPLEMENTARY INFORMATION: The NACWIR was established in accordance with the requirements of the National Windstorm Impact Reduction Act Reauthorization of 2015, Public Law 114-52. The NACWIR is charged with offering assessments and recommendations on—

• Trends and developments in the natural, engineering, and social sciences and practices of windstorm impact mitigation;

• the priorities of the Strategic Plan for the National Windstorm Impact Reduction Program (Program);

• the coordination of the Program;

• the effectiveness of the Program in meeting its purposes; and

• any revisions to the Program which may be necessary.

Background information on NWIRP and the Committee is available at https://www.nist.gov/news-events/news/2016/07/nist-leads-federal-effort-save-lives-and-property-windstorms.

Pursuant to the Federal Advisory Committee Act, as amended, 5 U.S.C. App., notice is hereby given that the NACWIR will hold an open meeting continuing the work of the Committee via video conference on Monday, September 25, 2017, from 9:00 a.m. to 10:00 a.m. Eastern Time. The primary purpose of the meeting will be to finalize the Committee's report on assessments and recommendations on the National Windstorm Impact Reduction Program. The agenda and meeting materials will be posted on the NACWIR Web site at https://www.nist.gov/el/mssd/nwirp/national-advisory-committee-windstorm-impact-reduction.

All participants of the meeting are required to pre-register. Please submit your first and last name, email address, and phone number to Steve Potts at Stephen.potts@nist.gov or (301) 975-5412. After pre-registering, participants will be provided with detailed instructions on how to join the video conference remotely. Approximately 10 minutes will be reserved from 9:45 a.m. to 9:55 a.m. Eastern Time for public comments.

Speaking times will be assigned on a first-come, first-served basis. The amount of time per speaker will be determined by the number of requests received. Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

Pursuant to 41 CFR 102-3.150(b), this Federal Register notice for this meeting is being published fewer than 15 calendar days prior to the meeting as exceptional circumstances exist. It is imperative that the meeting be held on September 25, 2017 to accommodate the scheduling priorities of the key participants, who must maintain a strict schedule of meetings in order to complete the Committee's report by September 30, 2017, as required by Public Law 114-52. Notice of the meeting is also posted on the National Institute of Standards and Technology's Web site at https://www.nist.gov/el/materials-and-structural-systems-division-73100/national-windstorm-impact-reduction-program-1.

Kevin Kimball,
Chief of Staff.

[FR Doc. 2017-19520 Filed 9-13-17; 8:45 am]

BILLING CODE 3510-13-P